DEPARTMENT OF AGRICULTURE

Food Safety and Inspection Service

[Docket No. FSIS-2008-0032]

Codex Alimentarius Commission: 2nd Session of the Codex ad hoc Intergovernmental Task Force on Antimicrobial Resistance

AGENCY: Office of the Under Secretary for Food Safety, USDA.

ACTION: Notice of public meeting.

SUMMARY: The Office of the Under Secretary for Food Safety, United States Department of Agriculture (USDA), and the Food and Drug Administration (FDA) are sponsoring a public meeting on September 25, 2008, to discuss the agenda items coming before the 2nd session of the Codex ad hoc Intergovernmental Task Force on Antimicrobial Resistance (AMR) and to present draft U.S. positions on the agenda items. The 2nd session of the AMR will be held in Seoul, Korea, October 20-24, 2008. The Under Secretary and FDA recognize the importance of providing interested parties the opportunity to comment on the agenda items that will be discussed at this forthcoming session of AMR.

DATES: The public meeting is scheduled for Thursday, September 25, 2008, from 1 p.m. to 3 p.m.

ADDRESSES: The public meeting will be held at FDA, 7519 Standish Place, Room 152, Rockville, MD.

Documents related to the 2nd session of the AMR will be accessible via the World Wide Web at the following address: http://www.codexalimentarius.net/current.asp.

For Further Information About the 2nd Session of the AMR Contact: U.S. Delegate, Dr. David White, Director, National Antimicrobial Resistance Monitoring System (NARMS), FDA, Center for Veterinary Medicine, Office of Research, 8401 Muirkirk Rd., Laurel, MD 20798, Phone: (301) 210-4181, E-mail: david.white@fda.hhs.gov.

For Further Information About the Public Meeting Contact: Edith Kennard, Staff Officer, U.S. Codex Office, Food Safety and Inspection Service (FSIS), Room 4861, South Building, 1400 Independence Avenue, SW., Washington, DC 20250, Phone: (202) 720-5261, Fax: (202) 720-3157, E-mail: edith.kennard@fsis.usda.gov.

SUPPLEMENTARY INFORMATION:

Background

The Codex Alimentarius (Codex) was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The Codex ad hoc Intergovernmental Task Force on AMR was established by the 29th Session of the Codex Alimentarius Commission in 2006 to develop science-based guidance to be used to assess the risks to human health associated with the presence in food and feed, including aquaculture, and the transmission through food and feed of antimicrobial resistant microorganisms and antimicrobial resistance genes. The AMR Task Force would also consider appropriate risk management options to reduce such risk. The Task Force is hosted by the Republic of Korea.

Issues To Be Discussed at the Public Meeting

The following items on the agenda for the 2nd session of the AMR will be discussed during the public meeting:

• Matters Referred to the Committee from Other Codex Bodies

• Information on the Work by FAO, WHO, and the World Organization for Animal Health on Antimicrobial Resistance

• Proposed Draft Risk Assessment Guidance Regarding Foodborne Antimicrobial Resistant Microorganisms (Report of the Working Group)

• Proposed Draft Guidance on Creating Risk Profiles for Antimicrobial Resistant Foodborne Microorganisms for Setting Risk Assessment and Management Priorities (Report of the Working Group)

• Proposed Draft Risk Management Guidance to Contain Foodborne Antimicrobial Resistant Microorganisms (Report of the Working Group)

Each issue listed will be fully described in documents distributed, or to be distributed, by the Korean Secretariat to the meeting. Members of the public may access copies of these documents at http://www.codexalimentarius.net/current.asp.

Public Meeting

At the September 25, 2008, public meeting, draft U.S. positions on these agenda items will be described and discussed, and attendees will have the opportunity to pose questions and offer comments. Written comments may be offered at the meeting or sent to the U.S. Delegate to the Task Force on AMR, Dr. David White, at david.white@fda.hhs.gov. Written comments should state that they relate to activities of the 2nd session of the Task Force on AMR.

Additional Public Notification

Public awareness of all segments of rulemaking and policy development is important. Consequently, in an effort to ensure that minorities, women, and persons with disabilities are aware of this notice, FSIS will announce it online through the FSIS Web page located at http://www.fsis.usda.gov/regulations/2008_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves, and they have the option to password protect their accounts.

Done at Washington, DC, on September 16, 2008.
Karen Hulebak,
Acting U.S. Manager for Codex Alimentarius.

[FR Doc. E8-22080 Filed 9-17-08; 4:15 pm]

BILLING CODE 3410-DM-P